DEPARTMENT OF HEALTH AND HUMAN SERVICES

Administration for Children and Families

Unaccompanied Children Office of the Ombuds (UCOO) Statement of Organization, Functions, and Delegations of Authority

AGENCY: Administration for Children and Families, Department of Health and Human Services (HHS).

ACTION: Notice of reorganization; Establishment of the Unaccompanied Children Office of the Ombuds (UCOO).

SUMMARY: The Administration for Children and Families (ACF) has reorganized to establish the Unaccompanied Children Office of the Ombuds (UCOO) within the Immediate Office of the Assistant Secretary, to be headed by a Director (“Ombuds”), who reports directly to the HHS Assistant Secretary for Children and Families.

FOR FURTHER INFORMATION CONTACT: Leah Chavla, Senior Advisor, Administration for Children and Families, 330 C Street SW, Washington, DC 20201, (202) 838-3307.

SUPPLEMENTARY INFORMATION: This notice amends Part K of the Statement of Organization, Functions, and Delegations of Authority of the Department of Health and Human Services (HHS), Administration for Children and Families (ACF), as follows: Chapter KA, Immediate Office of the Assistant Secretary as last amended by 88 FR 17229-17233 dated March 22, 2023.

I. Amend Chapter K, Administration for Children and Families, Chapter KA, Office of the Assistant Secretary for Children and Families, Subchapter KA.10 Organization, by Adding

Unaccompanied Children Office of the Ombuds (KAO)

II. Amend Chapter KA, Office of the Assistant Secretary for Children and Families, by Establishing Chapter KAO, Unaccompanied Children Office of the Ombuds

KAO.00 Mission. The Mission of the Unaccompanied Children Office of the Ombuds (UCOO) is to be an independent, impartial office with authority to receive reports, including confidential and informal reports, of concerns regarding the care and custody of unaccompanied children; to investigate such reports; to work collaboratively with the Office of Refugee Resettlement (ORR) to potentially resolve such reports; issue its own reports concerning UCOO's efforts; and make recommendations to ORR regarding UC program policies and procedures related to protecting unaccompanied children in the care and custody of ORR.

KAO.10 Organization. The UCOO is headed by a Director (“Ombuds”), who reports directly to the ACF Assistant Secretary, and consists of:

Immediate Office of the Ombuds for Unaccompanied Children (KAO1)

Division of Case Management (KAO2)

Division of Operations (KAO3)

KAO.20 Functions. The UCOO may engage in activities including, but not limited to: (1) Receiving reports from unaccompanied children, potential sponsors, other stakeholders in a child's case, and the public regarding ORR's adherence to its regulations and standards; (2) Investigating implementation of or adherence to Federal law and ORR regulations, in response to reports it receives, and meeting with interested parties to receive input on ORR's compliance with Federal law and ORR policy; (3) Requesting and receiving information or documents, such as the Ombuds deems relevant, from ORR and ORR care provider facilities, to determine implementation of and adherence to Federal law and ORR policy; (4) Preparing formal reports and recommendations on findings to publish or present, including an annual report describing activities conducted in the prior year; (5) Conducting investigations, interviews, and site visits at care provider facilities as necessary to aid in the preparation of reports and recommendations; (6) Visiting ORR care providers in which unaccompanied children are or will be housed; (7) Reviewing individual circumstances, including, but not limited to, concerns about unaccompanied children's access to services, ability to communicate with service providers, parents/legal guardians of children in ORR custody, sponsors, and matters related to transfers within or discharge from ORR care; (8) Making efforts to resolve complaints or concerns raised by interested parties as it relates to ORR's implementation or adherence to Federal law or ORR policy; (9) Hiring and retaining others, including, but not limited to, independent experts, specialists, assistants, interpreters, and translators to assist the Ombuds in the performance of their duties; (10) Making non-binding recommendations to ORR regarding its policies and procedures, specific to protecting unaccompanied children in the care of ORR; (11) Providing general educational information about pertinent laws, regulations, and policies, ORR child advocates, and legal services as appropriate; and (12) Advising and updating the Director of ORR, Assistant Secretary, and the Secretary, as appropriate, on the status of ORR's implementation and adherence with Federal law or ORR policy.

The Ombuds shall manage the files, records, and other information of the program, regardless of format, and such files must be maintained in a manner that preserves the confidentiality of the records except in instances of imminent harm or judicial action and is prohibited from using or sharing information for any immigration enforcement related purpose.

III. Continuation of Policy

Except as inconsistent with this reorganization, all statements of policy and interpretations with respect to organizational components affected by this notice within ACF, heretofore issued and in effect on this date of this reorganization are continued in full force and effect.

IV. Delegation of Authority

All delegations and re-delegations of authority made to officials and employees of affected organizational components will continue in them, or their successors, pending further re-delegations, provided they are consistent with this reorganization.

V. Funds, Personnel, and Equipment

Transfer of organizations and functions affected by this reorganization shall be accompanied in each instance by direct and support funds, positions, personnel, records, equipment, supplies, and other resources.

This reorganization will be effective upon date of signature.

Xavier Becerra,
Secretary, Health and Human Services.

[FR Doc. 2024-29188 Filed 12-9-24; 11:15 am]

BILLING CODE 4184-01-P